SURFACE TRANSPORTATION BOARD

[Docket No. EP 519 (Sub-No. 5)]

Renewal of National Grain Car Council

AGENCY: Surface Transportation Board.

ACTION: Notice of intent to renew charter.

SUMMARY: In accordance with the Federal Advisory Committee Act (FACA), notice is hereby given that the Surface Transportation Board intends to renew the charter of the National Grain Car Council (NGCC).

ADDRESSES: A copy of the charter is available on the Board's Web site at https://www.stb.gov/stb/rail/graincar_council.html.

FOR FURTHER INFORMATION CONTACT: Fred Forstall, Designated Federal Officer, at (202) 245-0241. [Assistance for the hearing impaired is available through the Federal Information Relay Service (FIRS) at: (800) 877-8339].

SUPPLEMENTARY INFORMATION: The NGCC functions as a continuing working group to facilitate private-sector solutions and recommendations to the STB on matters affecting grain transportation. The NGCC functions solely as an advisory body, and complies with the provisions of FACA.

The NGCC consists of approximately 40 members, excluding the governmental representatives. Members comprise a balanced representation of executives knowledgeable in the transportation of grain, including no fewer than 14 members from the Class I railroads (one marketing and one car management representative from each Class I), 7 representatives from Class II and III carriers, 14 representatives from grain shippers and receivers, and 5 representatives from private car owners and car manufacturers. The Vice Chairman of the Board is an ex officio (non-voting) member of the NGCC.

The NGCC meets at least annually, and meetings are open to the public, consistent with the Government in the Sunshine Act, Public Law 94-409 (1976).

Further information about the NGCC is available on the Board's Web site (https://www.stb.gov/stb/rail/graincar_council.html) and at the GSA's FACA Database (https://facadatabase.gov/).

Decided: September 19, 2017.
By the Board, Scott M. Zimmerman, Acting Director, Office of Proceedings.
Jeffrey Herzig,
Clearance Clerk.

[FR Doc. 2017-20287 Filed 9-28-17; 8:45 am]

BILLING CODE 4915-01-P